Title 3—

The President

Proclamation 7482 of October 8, 2001

Columbus Day, 2001

By the President of the United States of America

A Proclamation

More than 500 years ago, Christopher Columbus set sail from Spain on his historic voyage to what would be called the “New World.” His celebrated journey inaugurated an age of exploration that changed the course of history and enormously expanded our understanding of the world. Columbus' willingness to brave the unknown led to his remarkable find, bringing about further explorations that enormously enhanced the intellectual, commercial, and demographic fabric of Europe and the Americas. The stories of Columbus' voyage became a symbol of the quest for knowledge and understanding of the world, and it laid the historical foundation upon which much of America's future progress was built.

Reflecting on Christopher Columbus' legacy, we remember his great courage in choosing to sail across uncharted waters, we recall the power of his adventurous spirit, and we are inspired by his willingness to assume considerable risks for the sake of knowledge and progress. These virtues have been echoed down through history by some of America's greatest pioneers, from Meriwether Lewis and William Clark's daring explorations of our western frontier to the Apollo astronauts planting the American flag on the moon. Our Nation continues to follow the example of Columbus' bold desire to push the horizon, pursuing new paths of research and using our discoveries to benefit all of mankind.

Columbus' voyage represented the first linking of the lands and cultures separated by the Atlantic Ocean, and it served as a precursor to the close ties that exist today between America and Europe. His discovery connected continents separated by substantial geographic, religious, and cultural barriers; and America has since formed partnerships with nations across the seas that have sought to overcome those and other barriers through agreements affecting such areas as trade, human rights, and military support.

In commemoration of Columbus' momentous journey 509 years ago, the Congress, by joint resolution of April 30, 1934 (48 Stat. 657), and an Act of June 28, 1968 (82 Stat. 250), has requested that the President proclaim the second Monday of October of each year as “Columbus Day.”

NOW, THEREFORE, I, GEORGE W. BUSH, President of the United States of America, do hereby proclaim October 8, 2001, as Columbus Day. I urge the people of the United States to reflect on the contributions of Christopher Columbus with appropriate means of celebration. I also direct that the flag of the United States be displayed on all public buildings on the appointed day in honor of Christopher Columbus.

IN WITNESS WHEREOF, I have hereunto set my hand this eighth day of October, in the year of our Lord two thousand one, and of the Independence of the United States of America the two hundred and twenty-sixth.

B

[FR Doc. 01-25787

Filed 10-10-01; 8:54 am]

Billing code 3195-01-P